FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 010099-062.

Title: International Council of Containership Operators.

Parties: A.P. Moller-Maersk A/S; CMA. CGM, S.A.; China COSCO Shipping Corporation Limited; Crowley Maritime Corporation; Evergreen Marine Corporation (Taiwan), Ltd.; Hamburg-Süd KG; Hanjin Shipping Co., Ltd.; Hapag-Lloyd AG; Hyundai Merchant Marine Co., Ltd.; Kawasaki Kisen Kaisha, Ltd.; Mediterranean Shipping Co. S.A.; Mitsui O.S.K. Lines, Ltd.; Neptune Orient Lines, Ltd.; Nippon Yusen Kaisha; Orient Overseas Container Line, Ltd.; Pacific International Lines (Pte) Ltd.; United Arab Shipping Company (S.A.G.); Wan Hai Lines Ltd.; Yang Ming Transport Marine Corp.; and Zim Integrated Shipping Services Ltd.

Filing Party: John Longstreth, Esq.; K & L Gates LLP; 1601 K Street NW.; Washington, DC 20006-1600.

Synopsis: The amendment deletes China Ocean Shipping (Group) Company (and its subsidiary COSCO Container Lines Co., Ltd.), and China Ocean Shipping (Group) Company (and its subsidiary China Shipping Container Lines Company Limited) as separate members of the agreement because they have merged into one entity, China COSCO Shipping Corporation Limited.

Agreement No.: 012058-002.

Title: Hoegh Autoliners/K-Line Space Charter Agreement.

Parties: Hoegh Autoliners AS and Kawasaki Kisen Kaisha, Ltd.

Filing Party: John P. Meade, Esq.; “K” Line America, Inc.; 6199 Bethlehem Road; Preston, MD 21655.

Synopsis: The amendment adds the trade between Mexico and Puerto Rico to the geographic scope of the Agreement.

By Order of the Federal Maritime Commission.
Dated: October 7, 2016.
Rachel E. Dickon,
Assistant Secretary.

[FR Doc. 2016-24769 Filed 10-12-16; 8:45 am]

BILLING CODE 6730-01-P